NATIONAL CREDIT UNION ADMINISTRATION

Sunshine Act Meetings

Time and Date: 10:00 a.m., Tuesday, July 24, 2012.

Place: Board Room, 7th Floor, Room 7047, 1775 Duke Street (All visitors must use Diagonal Road Entrance), Alexandria, VA 22314-3428.

Status: Open.

Matters to be Considered:

1. Board Briefing—Interagency Proposal, Truth in Lending Act.

2. Interest Rate Ceiling Determination.

3. NCUA's Rules and Regulations, “Troubled Condition” Definition.

4. NCUA's Rules and Regulations, Access to Emergency Liquidity.

5. 2012 Temporary Corporate Credit Union Stabilization Fund Assessment.

6. Quarterly Insurance Fund Report.

7. Reprogramming of NCUA's Operating Budget for 2012.

For Further Information Contact: Mary Rupp, Secretary of the Board, Telephone: 703-518-6304.

Mary Rupp,
Board Secretary.

[FR Doc. 2012-17778 Filed 7-17-12; 4:15 pm]

BILLING CODE 7535-01-P